DEPARTMENT OF HEALTH AND HUMAN SERVICES

Administration for Children and Families

Refugee Resettlement Program; Proposed Availability of Formula Allocation Funding for FY 2001 Targeted Assistance Grants for Services to Refugees in Local Areas of High Need

AGENCY: Office of Refugee Resettlement (ORR), ACF, HHS.

ACTION: Notice of proposed availability of formula allocation funding for FY 2001 targeted assistance grants to States for services to refugees in local areas of high need.

SUMMARY: This notice announces the proposed availability of funds and award procedures for FY 2001 targeted assistance grants for services to refugees under the Refugee Resettlement Program (RRP). These grants are for service provision in localities with large refugee populations, high refugee concentrations, and high use of public assistance, and where specific needs exist for supplementation of currently available resources.

This notice continues the eligibility of those 50 counties located in 29 States that previously qualified for and received targeted assistance program (TAP) grants beginning in FY 1999 as a result of the three-year qualification process. The FY 2001 TAP formula allocations are based on the same formula as in FY 1999, updated to reflect arrivals during the five-year period from FY 1996 through FY 2000.

DATES: Comments on this notice must be received by May 29, 2001.

ADDRESSES: Address written comments, in duplicate, to: Gayle A. Smith, Office of Refugee Resettlement, Administration for Children and Families, 370 L'Enfant Promenade, SW., Washington, D.C. 20447.

Application Deadline: The deadline for applications will be established by the final notice. Applications should not be sent in response to this notice of proposed allocations.

FOR FURTHER INFORMATION CONTACT: Gayle Smith, Director, Division of Refugee Self-Sufficiency, (202) 205-3590, e-mail: gsmith@acf.dhhs.gov.

SUPPLEMENTARY INFORMATION:

I. Purpose and Scope

This notice announces the proposed availability of funds for grants for targeted assistance for services to refugees in counties where, because of factors such as unusually large refugee populations, high refugee concentrations, and high use of public assistance, there exists and can be demonstrated a specific need for supplementation of resources for services to this population.

The Office of Refugee Resettlement (ORR) has available $49,477,000 in FY 2001 funds for the targeted assistance program (TAP) as part of the FY 2001 appropriation for the Department of Health and Human Services (Consolidated Appropriations Act, 2001, as enacted into law by section 1(a)(1) of Pub. L. No. 106-554).

The Director of the Office of Refugee Resettlement (ORR) proposes to use the $49,477,000 in targeted assistance funds as follows:

• $44,529,300 will be allocated to States under the five-year population formula, as set forth in this notice.

• $4,947,700 (10 percent of the total) will be used to award discretionary grants to States under separate continuation grant awards.

The purpose of targeted assistance grants is to provide, through a process of local planning and implementation, direct services intended to result in the economic self-sufficiency and reduced welfare dependency of refugees through job placements.

The targeted assistance program reflects the requirements of section 412(c)(2)(B) of the Immigration and Nationality Act (INA), which provides that targeted assistance grants shall be made available “(i) primarily for the purpose of facilitating refugee employment and achievement of self-sufficiency, (ii) in a manner that does not supplant other refugee program funds and that assures that not less than 95 percent of the amount of the grant award is made available to the county or other local entity.”

II. Authorization

Targeted assistance projects are funded under the authority of section 412(c)(2) of the Immigration and Nationality Act (INA), as amended by the Refugee Assistance Extension Act of 1986 (Pub. L. No. 99-605), 8 U.S.C. 1522(c); section 501(a) of the Refugee Education Assistance Act of 1980 (Pub. L. No. 96-422), 8 U.S.C. 1522 note, insofar as it incorporates by reference with respect to Cuban and Haitian entrants the authorities pertaining to assistance for refugees established by section 412(c)(2) of the INA, as cited above; section 584(c) of the Foreign Operations, Export Financing, and Related Programs Appropriations Act, 1988, as included in the FY 1988 Continuing Resolution (Pub. L. No. 100-202), insofar as it incorporates by reference with respect to certain Amerasians from Vietnam the authorities pertaining to assistance for refugees established by section 412(c)(2) of the INA, as cited above, including certain Amerasians from Vietnam who are U.S. citizens, as provided under title II of the Foreign Operations, Export Financing, and Related Programs Appropriations Acts, 1989 (Pub. L. No. 100-461), 1990 (Pub. L. No. 101-167), and 1991 (Pub. L. No. 101-513).

III. Use of Funds

Targeted assistance funding must be used to assist refugee families to achieve economic independence in accordance with regulations at 45 CFR part 400. The term “refugee” includes persons who meet all requirements of 45 CFR 400.43 (as amended by 65 FR 15409 (March 22, 2000)). In addition to the statutory requirement that TAP funds be used “primarily for the purpose of facilitating refugee employment” (section 412(c)(2)(B)(i)), funds awarded under this program are intended to help fulfill the Congressional intent that “employable refugees should be placed on jobs as soon as possible after their arrival in the United States” (section 412(a)(1)(B)(i) of the INA). Therefore, in accordance with 45 CFR 400.313, targeted assistance funds must be used primarily for employability services designed to enable refugees to obtain jobs with less than one year's participation in the targeted assistance program in order to achieve economic self-sufficiency as soon as possible. Under 45 CFR 400.316, a State may provide the same scope of services under targeted assistance as may be provided to refugees under 45 CFR 400.154 and 45 CFR 400.155, with the exception of 45 CFR 400.155(h). Targeted assistance services may continue to be provided after a refugee has entered a job to help the refugee retain employment or move to a better job. Targeted assistance funds may not be used for long-term training programs such as vocational training that last for more than a year or educational programs that are not intended to lead to employment within a year.

States may not provide services funded under this notice, except for referral and interpreter services, to refugees who have been in the United States for more than 60 months (five years). Citizenship and naturalization preparation services to refugees who have been in the United States for more than 60 months may not be provided with targeted assistance funding.

In accordance with 45 CFR 400.314, States are required to provide targeted assistance services to refugees in the following order of priority, except in certain individual extreme circumstances: (a) Refugees who are cash assistance recipients, particularly long-term recipients; (b) unemployed refugees who are not receiving cash assistance; and (c) employed refugees in need of services to retain employment or to attain economic independence.

In accordance with 45 CFR 400.317, if targeted assistance funds are used for the provision of English language training, such training must be provided in a concurrent, rather than sequential, time period with employment or with other employment-related activities.

Refugees who are participating in TAP-funded or social services-funded employment services or have accepted employment are eligible for day care services for children. For an employed refugee, TAP-funded day care should be limited to one year after the refugee becomes employed. States and counties, however, are expected to use day care funding from other publicly funded mainstream programs as a prior resource and are encouraged to work with service providers to assure maximum access to other publicly funded resources for day care for which the child is eligible.

Reflecting section 412(a)(1)(A)(iv) of the INA, States must “ensure that women have the same opportunities as men to participate in training and instruction.” In addition, in accordance with 45 CFR 400.317, targeted assistance services must be provided, to the maximum extent feasible, in a manner that includes the use of bilingual/bicultural women on service agency staffs to ensure adequate service access by refugee women.

In accordance with 45 CFR 400.317, targeted assistance services must be provided in a manner that is culturally and linguistically compatible with a refugee's language and cultural background, to the maximum extent feasible. In light of the increasingly diverse population of refugees who are resettling in this country, refugee service agencies will need to develop practical ways of providing culturally and linguistically appropriate services to a changing ethnic population. Services funded under this notice must be refugee-specific services that are designed specifically to meet refugee needs and are in keeping with the rules and objectives of the refugee program. Vocational or job-skills training, on-the-job training, or English language training, however, need not be refugee-specific.

Finally, in order to provide culturally and linguistically compatible services in as cost-efficient a manner as possible in a time of limited resources, ORR strongly encourages States and counties to promote and give special consideration to the provision of services through coalitions of refugee service organizations, such as coalitions of Mutual Assistance Associations (MAAs), voluntary resettlement agencies, or a variety of service providers. ORR believes it is essential for refugee-serving organizations to form close partnerships in the provision of services to refugees in order to be able to respond adequately to a changing refugee picture. Coalition-building and consolidation of providers is particularly important in communities with multiple service providers in order to ensure better coordination of services and maximum use of funding for services by minimizing the funds used for multiple administrative overhead costs.

The award of funds to States under this notice will be contingent upon the completeness of a State's application as described in section VIII below.

IV. (Reserved for Discussion of Comments in the Final Notice)

V. Eligible Grantees

Eligible grantees are (a) those agencies of State governments that are responsible for the refugee program under 45 CFR 400.5 in States containing counties that qualify for FY 2001 targeted assistance awards; (b) a replacement designee appointed by the Director pursuant to 45 CFR 400.301(c) if the State authorized the replacement designee to act as its agent in applying for and receiving targeted assistance funds; or (c) an agency which has State-wide responsibility for an alternative to the State-administered program in lieu of the State under a Wilson/Fish grant authorized by section 412 (e)(7) of the INA.

The Director of ORR proposes to determine the eligibility of counties for inclusion in the FY 2001 targeted assistance program on the basis of the method described in section VI of this notice.

The use of targeted assistance funds for services to Cuban and Haitian entrants is limited to States that have an approved State plan under the Cuban/Haitian Entrant Program (CHEP).

The State agency will submit a single application on behalf of all county governments that are qualified counties in that State. Subsequent to the approval of the State's application by ORR, local targeted assistance plans will be developed by the county government or other designated entity and submitted to the State.

A State with more than one qualified county is permitted, but not required, to determine the allocation amount for each qualified county within the State. However, if a State chooses to determine county allocations differently from those set forth in the final notice, in accordance with 45 CFR 400.319, the FY 2001 allocations proposed by the State must be based on the State's population of refugees who arrived in the U.S. during the most recent five-year period. A State may use welfare data as an additional factor in the allocation of its targeted assistance funds if it so chooses; however, a State may not assign a greater weight to welfare data than it has assigned to population data in its allocation formula. In addition, if a State chooses to allocate its FY 2001 targeted assistance funds in a manner different from the formula set forth in the final notice, the FY 2001 allocations and methodology proposed by the State must be included in the State's application for ORR review and approval.

Applications submitted in response to the final notice are not subject to review by State and area-wide clearinghouses under Executive Order 12372, “Intergovernmental Review of Federal Programs.”

VI. Qualification and Allocation

A. Qualification

The Director of ORR will determine the qualification of counties for targeted assistance once every three years, as stated in the FY 1999 notice of proposed availability of targeted assistance allocations to States which was published in the Federal Register on March 10, 1999 (64 FR 11927). Since ORR determined the qualification of counties for targeted assistance in FY 1999, those qualifying counties determined eligible in FY 1999 and listed in this notice as qualified to apply for FY 2001 TAP funding would remain qualified for TAP funding through FY 2001 on the basis of the most current five-year refugee/entrant arrival data. ORR does not plan to consider the eligibility of additional counties for TAP funding until FY 2002, when ORR will again review data on all counties that could potentially qualify for TAP funds.

B. Allocation Formula

Of the funds available for FY 2001 for targeted assistance, $44,529,300 would be allocated by formula to States for qualified counties based on the initial placements of refugees, Amerasians, entrants (including Havana parolees), and Kurdish asylees in these counties during the five-year period from FY 1996 through FY 2000 (October 1, 1995-September 30, 2000). This is data that is available in the ORR Refugee Data System.

The arrival data used as the basis for targeted assistance formula allocations do not take asylees or secondary migrants who have received services into account. We are unable to include secondary migrants in the 5-year population because secondary migration is not currently tracked at the county level. We are unable to include asylees, except for Kurdish asylees who were processed on Guam, because information from the Immigration and Naturalization Service (INS) and Executive Office of Immigration Review (EOIR) on grants of asylum are available by zip code of the asylee. Unfortunately, zip code assignments do not correspond to county designations. Many zip codes cross county lines and in some cases, State lines. Therefore, based on available data, ORR is currently unable to credit numbers of asylees to counties.

ORR plans to remedy this by revising the ORR-11 and seeking OMB approval to capture numbers of asylees and secondary migrants accessing services at the county level. This revision to the ORR-11 will allow States to report on numbers of asylees and secondary migrants receiving services at the county level. ORR will adjust the targeted assistance 5-year population based on these data.

States are advised that ORR expects that these revisions to the ORR-11, once implemented, will require States to track asylees and secondary migrants who receive services by name, social security number, alien registration number, county of initial residence/resettlement, and county of current residence in order to transmit this information to ORR in the future.

With regard to Havana parolees, in the absence of reliable data on the State-by-State resettlement of this population, we are crediting 49,504 Havana parolees who arrived in the U.S. during the past five years according to the Immigration and Naturalization Service (INS), using the following methodology. For FY 1999 and FY 2000, we credited the qualifying counties with Havana parolees according to arrival numbers supplied to us by the Parolee Orientation Program funded by the International Affairs Office of the INS. For FY 1996 through FY 1998, the Havana parolees for each qualifying county in Florida are based on actual arrival data submitted by the State of Florida; Havana parolees credited to qualifying counties in other States were prorated based on the counties' proportion of the three-year (FY 1996 through FY 1998) entrant population in the U.S.

If a qualifying county does not agree with ORR's population estimate and believes that its five-year population for FY 1996-FY 2000 was undercounted and wishes ORR to reconsider its population estimate, the county must provide the following evidence: The county must submit to ORR a letter from each local voluntary agency that resettled refugees in the county that attests to the fact that the refugees/entrants listed in an attachment to the letter were resettled as initial placements during the five-year period from FY 1996-FY 2000 in the county making the claim. Documentation must include the name, alien number, date of birth and date of arrival in the U.S. for each refugee/entrant claimed. Listings of refugees who are not identified by their alien numbers will not be considered. Counties should submit such evidence separately from comments on the proposed formula no later than 30 days from the date of publication of this notice and addressed to: Loren Bussert, Division of Refugee Self-Sufficiency, Office of Refugee Resettlement, 370 L'Enfant Promenade, SW., Washington, DC 20447; telephone, (202) 401-4732; E-mail: lbussert@acf.dhhs.gov. Failure to submit the required documentation within the required time period will result in forfeiture of consideration.

VII. Allocations

Table 1 lists the qualifying counties; the number of refugee (column 3) and entrant (column 4) arrivals in those counties during the five-year period from October 1, 1995-September 30, 2000; the number of Havana parolees (column 5) credited to each county during this period, the total number of arrivals; and the proposed amount of each county's allocation based on its five-year arrival population.

Table 1.—Proposed Targeted Assistance Allocations by County: FY 2001
County | State | Refugees ¹ | Entrants | Havanna parolees ² | Total arrivals FY 1996-2000 | Total FY 2001 proposed allocation
1 Maricopa County | Arizona | 9,674 | 685 | 401 | 10,760 | $1,407,207
2 Fresno County | California | 968 | 2 | 1 | 971 | 126,988
3 Los Angeles County | California | 13,149 | 124 | 380 | 13,653 | 1,785,506
4 Orange County | California | 4,713 | 12 | 23 | 4,748 | 620,904
5 Sacramento County | California | 10,652 | 2 | 6 | 10,660 | 1,394,099
6 San Diego County | California | 5,826 | 141 | 280 | 6,247 | 816,924
7 San Francisco | California | 5,028 | 13 | 33 | 5,074 | 663,511
8 Santa Clara County | California | 6,317 | 43 | 31 | 6,391 | 835,815
9 Yolo County | California | 1,224 | 0 | 3 | 1,227 | 160,407
10 Denver County | Colorado | 2,795 | 0 | 5 | 2,800 | 366,117
11 District of Columbia | District of Columbia | 2,941 | 5 | 14 | 2,960 | 387,124
12 Broward County | Florida | 617 | 1,279 | 1,274 | 3,170 | 414,566
13 Dade County | Florida | 7,012 | 14,453 | 40,330 | 61,795 | 8,081,420
14 Duval County | Florida | 4,641 | 18 | 59 | 4,718 | 617,010
15 Hillsborough County | Florida | 1,605 | 329 | 1,312 | 3,246 | 424,505
16 DeKalb County | Georgia | 8,685 | 10 | 8 | 8,703 | 1,138,115
17 Fulton County | Georgia | 4,644 | 84 | 134 | 4,862 | 635,840
18 Cook/Kane | Illinois | 14,730 | 182 | 272 | 15,184 | 1,985,732
19 Polk County | Iowa | 3,571 | 1 | 2 | 3,574 | 467,400
20 Jefferson County ³ | Kentucky | 3,765 | 1,576 | 487 | 5,828 | 762,188
21 Hampden County | Massachusetts | 2,296 | 9 | 5 | 2,310 | 302,046
22 Suffolk County | Massachusetts | 4,154 | 57 | 49 | 4,260 | 557,146
23 Ingham County | Michigan | 1,911 | 718 | 227 | 2,856 | 373,532
24 Kent County | Michigan | 3,125 | 190 | 29 | 3,344 | 437,320
25 Hennepin County | Minnesota | 7,891 | 5 | 4 | 7,900 | 1,033,085
26 Ramsey County | Minnesota | 1,680 | 2 | 5 | 1,687 | 220,638
27 City of St. Louis | Missouri | 9,429 | 1 | 1 | 9,431 | 1,233,302
28 Lancaster County | Nebraska | 2,302 | 34 | 20 | 2,356 | 308,113
29 Clark County ⁴ | Nevada | 1,761 | 1,162 | 698 | 3,621 | 473,547
30 Hudson County | New Jersey | 787 | 257 | 868 | 1,912 | 250,047
31 Bernalillo County | New Mexico | 880 | 695 | 647 | 2,222 | 290,588
32 Monroe County | New York | 2,526 | 643 | 358 | 3,527 | 461,254
33 New York | New York | 32,361 | 355 | 481 | 33,197 | 4,341,434
34 Oneida County | New York | 4,781 | 0 | 0 | 4,781 | 625,249
35 Guilford County | North Carolina | 2,508 | 5 | 15 | 2,528 | 330,607
36 Cass County | North Dakota | 2,043 | 0 | 2 | 2,045 | 267,441
37 Cuyahoga County | Ohio | 3,335 | 6 | 7 | 3,348 | 437,854
38 Multnomah | Oregon | 11,076 | 734 | 317 | 12,127 | 1,585,917
39 Erie County | Pennsylvania | 1,989 | 0 | 0 | 1,989 | 260,117
40 Philadelphia County | Pennsylvania | 4,200 | 26 | 39 | 4,265 | 557,718
41 Minnehaha County ⁵ | South Dakota | 1,729 | 0 | 0 | 1,729 | 226,115
42 Davidson County | Tennessee | 3,180 | 54 | 45 | 3,279 | 428,774
43 Dallas/Tarrant | Texas | 10,636 | 333 | 406 | 11,375 | 1,487,587
44 Harris County | Texas | 8,039 | 508 | 118 | 8,665 | 1,133,158
45 Davis/Salt Lake | Utah | 5,569 | 1 | 3 | 5,573 | 728,761
46 Fairfax County | Virginia | 3,285 | 4 | 9 | 3,298 | 431,318
47 City of Richmond | Virginia | 2,403 | 39 | 59 | 2,501 | 327,116
48 King/Snohomish | Washington | 12,529 | 41 | 34 | 12,604 | 1,648,339
49 Pierce County | Washington | 1,982 | 3 | 5 | 1,990 | 260,264
50 Spokane County | Washington | 3,207 | 0 | 1 | 3,208 | 419,535
Total |  | 266,151 | 24,841 | 49,504 | 340,496 | 44,529,300
¹ Includes refugees, Amerasian immigrants from Vietnam, and Kurdish asylees from Iraq. Does not inlcude other asylees or secondary migrants.
² For FY 1999 and FY 2000, the Havana parolees for all counties are based on actual data. For previous years, the Havana parolees of Florida counties are based on actual data, while parolees from other counties are prorated based on each county's proportion of the three-year (FY 1996-1998) entrant population.
³ The allocation for Jefferson County, Kentucky will be awarded to the Kentucky Wilson/Fish project.
⁴ The allocation for Clark County, Nevada will be awarded to the Nevada Wilson/Fish project.
⁵ The allocation for Minnehaha County, South Dakota will be awarded to the South Dakota Wilson/Fish project.

Table 2.—Targeted Assistance Proposed Allocations by State: FY 2001
State | Total FY 2001 allocation
Arizona | $1,407,207
California | 6,404,154
Colorado | 366,117
District of Columbia | 387,124
Florida | 9,537,501
Georgia | 1,773,955
Illinois | 1,985,732
Iowa | 467,400
Kentucky | 762,188
Massachusetts | 859,192
Michigan | 810,852
Minnesota | 1,253,723
Missouri | 1,233,302
Nebraska | 308,113
Nevada | 473,547
New Jersey | 250,047
New Mexico | 290,588
New York | 5,427,937
North Carolina | 330,607
North Dakota | 267,441
Ohio | 437,854
Oregon | 1,585,917
Pennsylvania | 817,835
South Dakota | 226,115
Tennesee | 428,774
Texas | 2,620,745
Utah | 728,761
Virginia | 758,434
Washington | 2,328,138
Total | 44,529,300

VIII. Application and Implementation Process

States that are currently operating under approved management plans for their FY 1999 targeted assistance program and wish to continue to do so for their FY 2001 grants may provide the following in lieu of resubmitting the full currently approved plan:

The State's application for FY 2001 funding shall provide:

• Assurance that the State's current management plan for the administration of the targeted assistance program, as approved by ORR in FY 1999, will continue to be in full force and effect for the FY 2001 targeted assistance program, subject to any additional assurances or revisions required by this notice which are not reflected in the current plan. Any proposed modifications to the approved plan will be identified in the application and are subject to ORR review and approval, e.g., if the State assumes local administration of the program or if the State chooses to determine county allocations differently. Any proposed changes must address and reference all appropriate portions of the FY 1999 application content requirements to ensure complete incorporation in the State's management plan.

• A line item budget and justification for State administrative costs limited to a maximum of five percent of the total award to the State. Each total budget period funding amount requested must be necessary, reasonable, and allocable to the project.

• All applicants must submit targeted assistance performance goals as described under Section IX.

IX. Results or Benefits Expected

All applicants must establish targeted assistance proposed performance goals for each of the six ORR performance outcome measures for each targeted assistance county's proposed service contract(s) or sub-grants for the next contracting cycle. Proposed performance goals must be included in the application for each performance measure. The six ORR performance measures are: entered employments, cash assistance reductions due to employment, cash assistance terminations due to employment, 90-day employment retentions, average wage at placement, and job placements with available health benefits. Targeted assistance program activity and progress achieved toward meeting performance outcome goals are to be reported quarterly on the ORR-6, the “Quarterly Performance Report.”

X. Reporting Requirements

States will be required to submit quarterly reports on the outcomes of the targeted assistance program, using the same form which States use for reporting on refugee social services formula grants. This is Schedule A and Schedule C, pages 1 and 2 of the ORR-6 Quarterly Performance Report form (OMB #0970-0036).

XI. The Paperwork Reduction Act of 1995 (Pub. L. 104-13)

This notice does not create any reporting or recordkeeping requirements requiring OMB clearance.

Catalog of Federal Domestic Assistance (CFDA) Number: 93.584
Dated: April 20, 2001.
Carmel Clay-Thompson,
Acting Director, Office of Refugee Resettlement.

[FR Doc. 01-10444 Filed 4-26-01; 8:45 am]

BILLING CODE 4184-01-P